SECURITIES AND EXCHANGE COMMISSION

[File No. 500-1]

BB Liquidation Inc., Order of Suspension of Trading

September 29, 2011.

It appears to the Securities and Exchange Commission that there is a lack of current and accurate information concerning the securities of BB Liquidation Inc. because of assertions in third-party press releases to investors concerning, among other things, the company's current financial condition and business prospects.

The Commission is of the opinion that the public interest and the protection of investors require a suspension of trading in the securities of the company listed above.

Therefore, it is ordered, pursuant to Section 12(k) of the Securities Exchange Act of 1934, that trading in the securities of the company listed above is suspended for the period from 9:30 a.m. EDT, September 29, 2011, through 11:59 p.m. EDT, on October 12, 2011.

By the Commission.
Elizabeth M. Murphy,
Secretary.

[FR Doc. 2011-25506 Filed 9-29-11; 4:15 pm]

BILLING CODE 8011-01-P